DEPARTMENT OF HEALTH AND HUMAN SERVICES

Office of the Secretary; Office of the Assistant Secretary for Preparedness and Response; Statement of Organization, Functions, and Delegations of Authority

Part A, Office of the Secretary, Statement of Organization, Functions, and Delegations of Authority of the Department of Health and Human Services (HHS) is being amended at Chapter AN, Office of the Assistant Secretary for Preparedness and Response (ASPR), as last amended at 78 FR 25277 April 30, 2013. This organizational change is to realign the Medical Reserve Corps from the HHS Office of the Assistant Secretary of Health to ASPR under the Office of Emergency Management and is consistent with authorities established under Sections 1703, 2811(c)(2)(D), and 2813 of the Public Health Service Act, as modified by the Pandemic and All-Hazards Preparedness Reauthorization Act of 2013 (Pub. L. 113-5). The change is as follows.

I. Under Part A, Chapter AN, Section AN.00, Mission, add “Authority over and responsibility for the Medical Reserve Corps.”

II. Delegations of Authority. All delegations and redelegations of authority made to officials and employees of affected organizational components will continue in them or their successors pending further redelegation, provided they are consistent with this reorganization.

This reorganization is effective on the date of publication in the Federal Register.

Dated: November 19, 2014.
Sylvia M. Burwell,
Secretary.

[FR Doc. 2014-28030 Filed 11-25-14; 8:45 am]

BILLING CODE 4150-28-P